DEPARTMENT OF THE INTERIOR

National Park Service

[NPS-WASO-NAGPRA-NPS0034973; PPWOCRADN0-PCU00RP14.R50000]

Notice of Inventory Completion: Sam Noble Oklahoma Museum of Natural History, University of Oklahoma, Norman, OK

AGENCY: National Park Service, Interior.

ACTION: Notice.

SUMMARY: In accordance with the Native American Graves Protection and Repatriation Act (NAGPRA), the Sam Noble Oklahoma Museum of Natural History has completed an inventory of human remains and associated funerary objects and has determined that there is a cultural affiliation between the human remains and associated funerary objects and Indian Tribes or Native Hawaiian organizations in this notice. The human remains and associated funerary objects were removed from Delaware and Le Flore Counties, OK.

DATES: Repatriation of the human remains and associated funerary objects in this notice may occur on or after January 9, 2023.

ADDRESSES: Dr. Marc Levine, Associate Curator of Archaeology, Sam Noble Oklahoma Museum of Natural History, University of Oklahoma, 2401 Chautauqua Avenue, Norman, OK 73072-7029, telephone (405) 325-1994, email mlevine@ou.edu.

SUPPLEMENTARY INFORMATION: This notice is published as part of the National Park Service's administrative responsibilities under NAGPRA. The determinations in this notice are the sole responsibility of the Sam Noble Oklahoma Museum of Natural History. The National Park Service is not responsible for the determinations in this notice. Additional information on the determinations in this notice, including the results of consultation, can be found in the inventory or related records held by the Sam Noble Oklahoma Museum of Natural History.

Description

In 1940, human remains representing, at minimum, seven individuals were removed from the Bennet-Monroe site (34Lf26) in Le Flore County, OK. The site was excavated by the Works Progress Administration (WPA) in April and May of 1940, and the associated finds were transferred to the Museum in 1947. The human remains include one child, four adult males, one adult female, and one adult of indeterminate sex. No known individuals were identified. The eight associated funerary objects are five faunal bone fragments, two projectile points, and one grog-tempered sherd. The human remains and associated funerary objects from site 34Lf26 were interred during the Woodland Period (300 B.C.-A.D. 1000).

In 1938, human remains representing, at minimum, three individuals were removed from the Ballard 1 site (34Dl27) in Delaware County, OK. This is a rock shelter site located along a tributary of the Neosho River. It was excavated by the WPA in 1938, and the associated finds were donated to the Museum that same year. The fragmentary human remains include two children, both 4-6 years old, and one adult of indeterminate sex. No known individuals were identified. The 192 associated funerary objects are 132 animal bone fragments and 60 shell fragments. The human remains and associated funerary objects from site 34Dl27 were interred during the Woodland Period (300 B.C.-A.D. 1000).

In 1939, human remains representing, at minimum, two individuals were removed from the Phillips site (34Lf34) in Le Flore County, OK. The human remains were discovered in the Museum collection in 1995, and no other information about them is available. The human remains include one adult female 35-50 years old and one adult male at least 50 years old. No known individuals were identified. The 16 associated funerary objects are 15 faunal bones and one mussel shell. The human remains and associated funerary objects from 34Lf34 were interred during the Woodland Period (300 B.C.-A.D. 1000).

In 1947, human remains representing, at minimum, three individuals were removed from the Ward site (34Lf10) in Le Flore County, OK. The site was excavated by the University of Oklahoma in 1947, and the associated finds were transferred to the Museum that same year. This type of site, often referred to as a “black midden site,” represents the remains of a village. It includes low mounds with dense accumulations of occupational debris, dark sediment, and burials. The human remains include two adult males and one adult of indeterminate sex. No known individuals were identified. The 18 associated funerary objects are one undecorated ceramic sherd, three chipped stone bifaces, three straight stem projectile points, five contracting stem projectile points, one expanding stem projectile point, one unidentified worked stone, one antler fragment, and three animal bone fragments. The human remains and associated funerary objects from site 34Lf10 were interred during the Woodland Period (300 B.C.-A.D. 1000).

In 1940, human remains representing, at minimum, 19 individuals were removed from the Redwine 2 site (34Lf15) in Le Flore County, OK. This mound site, located on the north and south banks of Fourche Maline Creek, was excavated by the WPA in 1940. In 1947, the site was recorded by the University of Oklahoma and the human remains and archeological materials were transferred to the Museum. The human remains include one fetus, one infant, five children, four adolescents, and eight adults. No known individuals were identified. The 26 associated funerary objects are eight animal bone beads, nine animal bone fragments, three stone projectile points, one bag of burned clay, two ceramic sherds, and three unmodified shell fragments. The Redwine 2 site dates to the Woodland Period (300 B.C. to A.D. 1000), more specifically, to the Fourche Maline phase (A.D. 300-800) according to the chronology established for eastern Oklahoma.

In 1965, human remains representing, at minimum, one individual were removed from the Sugar Creek site (34Lf1) in Le Flore County, OK. The site had been disturbed by agricultural activities, bulldozing, and looting. Excavations at 34Lf1 were carried out by the University of Oklahoma in 1965 and by the Oklahoma Archeological Survey in 1981. The associated finds were brought to the Museum immediately following both projects. The human remains include one adult of indeterminate sex, 20 years or older. No known individual was identified. The 103 associated funerary objects are one quartz crystal, three projectile points, one chipped stone core, 80 stone flakes, one small bag of highly fragmented copper, one potsherd, nine animal bone fragments, and seven shell fragments. The Sugar Creek site dates to the Woodland (300 B.C.-A.D. 1000) and Mississippian (A.D. 1000-1500) Periods.

In 1939, human remains representing, at minimum, two individuals were removed from the Jones site (34Lf75) in Le Flore County, OK. The site was excavated by the WPA in 1939 and the excavated finds were transferred to the Museum that same year. The human remains include an adult male and an adult female. No known individuals were identified. The 20 associated funerary objects are 18 ceramic potsherds, one charred turtle shell fragment, and one piece of charred corn. The human remains and associated funerary objects from site 34Lf75 were interred during the Mississippian Period (A.D. 1000-1500).

In 1937, human remains representing, at minimum, three individuals were removed from the Ward Mound 2 site (34Lf37) in Le Flore County, OK. This mound, located immediately south of Craig Mound (34Lf40), is associated with the larger Spiro Mounds complex. The mound was excavated by the WPA in 1937 and the associated finds were turned over to the museum that same year. The human remains include three adults over 20 years of age and of indeterminate sex. No known individuals were identified. The 15 associated funerary objects are two fragments of red pigment, one fragment of white pigment, and 12 unmodified stone pebbles. The Ward Mound 2 site dates to the Mississippian Period (A.D. 1000-1500), more specifically, to the Evans and Harlan phases (A.D. 1000-1250) according to the chronology established for eastern Oklahoma.

In 1938, human remains representing, at minimum, five individuals were removed from the Littlefield 1 site (34Lf60) in Le Flore County, OK. This village site was excavated by the WPA in 1938, and the associated finds were brought to the museum that same year. The human remains include two males, one female, one late adolescent of indeterminate sex, and one adult of indeterminate sex. No known individuals were identified. The 72 associated funerary objects are one partially complete ceramic vessel, 32 potsherds, two burned clay fragments, one hammerstone, one bone awl, 34 turtle bones, and one deer jawbone. The human remains and associated funerary objects from site 34Lf60 were interred during the Mississippian Period (A.D. 1000-1500), more specifically, during the Spiro (A.D. 1350-1450) and Fort Coffee (A.D. 1450-1600) phases according to the chronology established for eastern Oklahoma.

In 1939, human remains representing, at minimum, 20 individuals were removed from the Braden School House site (34Lf77) in Le Flore County, OK. This site was excavated in 1939 by the WPA and the finds were turned over to the museum that same year. The human remains include two children and 18 adults of indeterminate sex. No known individuals were identified. The 48 associated funerary objects are 10 ceramic vessels, one ceramic pipe, and 37 potsherds. The human remains and associated funerary objects from site 34Lf77 were interred during the Spiro (A.D. 1350-1450) and Fort Coffee (A.D. 1450-1600) phases.

In 1938, human remains representing, at minimum, two individuals were removed from the Bowman 1 site (34Lf42) in Le Flore County, OK. This village site was located on the south bank of the Arkansas River, about one and a half miles west of the Spiro Mounds group. Prior to excavation by the WPA in 1938, the site had been subject to extensive looting. The finds from the 1938 excavation were turned over to the Museum that same year. The human remains include two adults of indeterminate sex. No known individuals were identified. The 932 associated funerary objects are one decorated bowl with one bird effigy on each handle, one decorated bowl with four pinched nodes and a decorated neck, one decorated bowl with a scalloped rim, one decorated bottle incised with circles, one decorated jar with incised triangles on the neck, one decorated bottle, 22 undecorated bowls, three undecorated bottles, one dipper without the handle, three undecorated vessels, one pipe, 877 potsherds, one daub fragment, seven projectile points, one stone knife, one chipped stone axe, three stone bifaces, two groundstone mano fragments, one animal bone bead, one turtle bone shell fragment, and two animal bones. The human remains and associated funerary objects from site 34Lf42 were interred during the Spiro (A.D. 1350-1450) and Fort Coffee (A.D. 1450-1600) phases.

In 1938, human remains representing, at minimum, 11 individuals were removed from the Choates 2 site (34Lf62) in Le Flore County, OK. This site was excavated by the WPA in 1938 and the associated finds were brought to the museum later that year. The human remains include two neonates, three infants, five children, and one adult. No known individuals were identified. The 251 associated funerary objects are 16 Woodward Plain potsherds, 11 Poteau Plain potsherds, one decorated rim potsherd, 122 undecorated potsherds, two daub fragments, one ceramic pipe fragment, one hammerstone, one complete projectile point, three projectile point fragments, 28 turtle bone fragments, one antler fragment, three burned animal bone fragments, 45 animal bone fragments, one lead ore fragment, seven modified mussel shell fragments, and eight unmodified mussel shell fragments. The Choates 2 site dates to the Mississippian Period (A.D. 1000-1400), more specifically, to the Norman phase (A.D. 1250-1350) according to the chronology developed for eastern Oklahoma.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, and historical, as well as information provided through tribal consultation.

Determinations

Pursuant to NAGPRA and its implementing regulations, and after consultation with the appropriate Indian Tribes and Native Hawaiian organizations, the Sam Noble Oklahoma Museum of Natural History has determined that:

• The human remains described in this notice represent the physical remains of 78 individuals of Native American ancestry.

• The 1,701 objects described in this notice are reasonably believed to have been placed with or near individual human remains at the time of death or later as part of the death rite or ceremony.

• There is a relationship of shared group identity that can be reasonably traced between the human remains and associated funerary objects described in this notice and the Caddo Nation of Oklahoma and the Wichita and Affiliated Tribes (Wichita, Keechi, Waco, & Tawakonie), Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 9, 2023. If competing requests for repatriation are received, the Sam Noble Oklahoma Museum of Natural History must determine the most appropriate requestor prior to repatriation. Requests for joint repatriation of the human remains and associated funerary objects are considered a single request and not competing requests. The Sam Noble Oklahoma Museum of Natural History is responsible for sending a copy of this notice to the Indian Tribes identified in this notice.

Authority: Native American Graves Protection and Repatriation Act, 25 U.S.C. 3003, and the implementing regulations, 43 CFR 10.9, 10.10, and 10.14.

Dated: November 30, 2022.
Melanie O'Brien,
Manager, National NAGPRA Program.

[FR Doc. 2022-26794 Filed 12-8-22; 8:45 am]

BILLING CODE 4312-52-P